DEPARTMENT OF COMMERCE

International Trade Administration

[A-580-868]

Large Residential Washers From the Republic of Korea: Final Results of the Antidumping Duty Administrative Review; 2012-2014

AGENCY: Enforcement and Compliance, International Trade Administration, Department of Commerce.

SUMMARY: On March 9, 2015, the Department of Commerce (the Department) published the preliminary results of the administrative review of the antidumping duty (AD) order on large residential washers (LRWs) from the Republic of Korea (Korea).¹ The review covers three producers/exporters of the subject merchandise: Daewoo Electronics Corporation (Daewoo), LG Electronics, Inc. (LGE), and Samsung Electronics Co., Ltd. (Samsung). The period of review (POR) is August 3, 2012, through January 31, 2014. We gave interested parties an opportunity to comment on the Preliminary Results. After reviewing the comments received and making corrections to the margin calculations, where appropriate, we continue to find that sales of subject merchandise to the United States have been made at prices below normal value. The final dumping margins for the reviewed companies are listed below in the section entitled “Final Results of the Review.”

¹ See Large Residential Washers From the Republic of Korea: Preliminary Results of the Antidumping Duty Administrative Review; 2012-2014, 80 FR 12456 (March 9, 2015) (Preliminary Results).

DATES: Effective date: September 16, 2015.

FOR FURTHER INFORMATION CONTACT: David Goldberger or Reza Karamloo, AD/CVD Operations, Office II, Enforcement and Compliance, International Trade Administration, U.S. Department of Commerce, 14th Street and Constitution Avenue NW., Washington, DC 20230; telephone: (202) 482-4136 or (202) 482-4470, respectively.

SUPPLEMENTARY INFORMATION:

Background

For a complete description of the events that following the publication of the Preliminary Results, see the Issues and Decision Memorandum.² The Issues and Decision Memorandum is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

² See memorandum to Paul Piquado, Assistant Secretary for Enforcement and Compliance, from Gary Taverman, Associate Deputy Assistant Secretary for Antidumping and Countervailing Duty Operations, “Issues and Decision Memorandum for the Final Results of the Antidumping Duty Administrative Review of Large Residential Washers from the Republic of Korea,” dated concurrently with and adopted by this notice (Issues and Decision Memorandum).

The Department conducted this administrative review in accordance with section 751 of the Tariff Act of 1930, as amended (the Act).

Scope of the Order

The products covered by the order are all large residential washers and certain subassemblies thereof from Korea. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.³

³ A full description of the scope of the order is contained in the Issues and Decision Memorandum. The HTSUS numbers are revised from the numbers previously stated in the scope. See Memorandum to The File (MTF) entitled “Changes to the HTS Numbers to the ACE Case Reference Files for the Antidumping Duty Orders,” dated January 6, 2015.

Analysis of Comments Received

All issues raised in the case and rebuttal briefs are addressed in the Issues and Decision Memorandum. A list of the issues which parties raised and to which we respond in the Issues and Decision Memorandum is attached to this notice as Appendix I.

Final Results of the Review

Based on our analysis of the comments received, we made changes to the weighted-average dumping margin calculation for LGE. No party submitted comments on the Department's preliminary decision to assign Daewoo and Samsung a margin based on adverse facts available (AFA) for their failure to respond to our request for information.⁴ As the facts with respect to these two respondents remain the same, we made no changes to the rate assigned to them as AFA in these final results.⁵ Therefore, we are assigning the following weighted-average dumping margins for the period August 3, 2012, through January 31, 2014: ⁶

⁴ See Preliminary Results, 80 FR 12457.

⁵ This rate equals the AFA rate of 82.41 percent adjusted for export subsidies totaling 3.30 percent assigned to Daewoo in the final determination of the CVD investigation of LRWs from Korea. See MTF, entitled “Source Documentation Relevant to Export Subsidy Adjustments,” dated concurrently with this notice, at Attachment I.

⁶ This rate equals the AFA rate of 82.41 percent adjusted for an export subsidy in the amount of 0.06 percent assigned to Samsung in the final determination of the CVD investigation of LRWs from Korea. Id., at Attachment II.

Manufacturer/exporter | Weighted- average dumping margin (percent)
Daewoo Electronics Corporation | 79.11
LG Electronics, Inc | 1.52
Samsung Electronics Co., Ltd | 82.35

Disclosure and Public Comment

We intend to disclose the calculations performed within five days of the date of publication of this notice to parties in this proceeding in accordance with 19 CFR 351.224(b).

Assessment Rates

Pursuant to section 751(a)(2)(C) of the Act, and 19 CFR 351.212(b)(1), the Department determined, and U.S. Customs and Border Protection (CBP) shall assess, antidumping duties on all appropriate entries of subject merchandise in accordance with the final results of this review. The Department intends to issue appropriate assessment instructions directly to CBP 15 days after publication of the final results of this administrative review.

For those sales where LGE reported the entered value of its U.S. sales, we calculated importer-specific ad valorem duty assessment rates based on the ratio of the total amount of antidumping duties calculated for the examined sales to the total entered value of the examined sales to that importer. For those sales where LGE did not report the entered value of its U.S. sales, we calculated importer-specific customer-specific per-unit duty assessment rates by aggregating the total amount of antidumping duties calculated for the examined sales and dividing this amount by the total quantity of those sales. To determine whether the duty assessment rate is de minimis, in accordance with the requirement set forth in 19 CFR 351.106(c)(2), we calculated an importer-specific ad valorem ratio based on the estimated entered value. Where an importer-specific assessment rate is zero or de minimis (i.e., less than 0.5 percent), the Department will instruct CBP to liquidate these entries without regard to antidumping duties pursuant to 19 CFR 351.106(c)(2).

For Daewoo's and Samsung's U.S. sales, we based the assessment rate assigned to the corresponding entries on the weighted-average dumping margins listed above.

The Department clarified its “automatic assessment” regulation on May 6, 2003.⁷ If applicable, this clarification will apply to entries of subject merchandise during the POR produced by LGE, for which the company did not know that its merchandise was destined for the United States. In such instances, we will instruct CBP to liquidate these entries at the all-others rate established in the less-than fair-value (LTFV) investigation, 11.80 percent,⁸ if there is no rate for the intermediary involved in the transaction. See Assessment Policy Notice for a full discussion of this clarification.

⁷ See Antidumping and Countervailing Duty Proceedings: Assessment of Antidumping Duties, 68 FR 23954 (May 6, 2003) (Assessment Policy Notice).

⁸ See Large Residential Washers From Mexico and the Republic of Korea: Antidumping Duty Orders, 78 FR 11148 (February 15, 2013) (AD Order).

Cash Deposit Requirements

The following deposit requirements will be effective upon publication of the notice of final results of administrative review for all shipments of the subject merchandise entered, or withdrawn from warehouse, for consumption on or after the date of publication, as provided by section 751(a)(2)(C) of the Act: (1) The cash deposit rates for Daewoo, LGE, and Samsung will be equal to the weighted-average dumping margins established in the final results of this administrative review, as shown above; (2) for merchandise exported by manufacturers or exporters not covered in this administrative review but covered in a prior segment of the proceeding, the cash deposit rate will continue to be the company-specific rate published for the most recently-completed segment; (3) if the exporter is not a firm covered in this review, a prior review, or the original LTFV investigation, but the manufacturer is, the cash deposit rate will be the rate established for the most recently-completed segment of this proceeding for the manufacturer of the merchandise; and (4) the cash deposit rate for all other manufacturers or exporters will continue to be 11.80 percent, the all-others rate determined in the LTFV investigation.⁹ These cash deposit requirements, when imposed, shall remain in effect until further notice.

⁹ Id.

Notification to Importers

This notice also serves as a final reminder to importers of their responsibility under 19 CFR 351.402(f) to file a certificate regarding the reimbursement of antidumping and/or countervailing duties prior to liquidation of the relevant entries during this review period. Failure to comply with this requirement could result in the Secretary's presumption that reimbursement of antidumping and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act.

Dated: September, 8, 2015.
Paul Piquado,
Assistant Secretary for Enforcement and Compliance.

Appendix I

List of Topics Discussed in the Issues and Decision Memorandum

SUMMARY

BACKGROUND

MARGIN CALCULATIONS

SCOPE OF THE ORDER

DISCUSSION OF THE ISSUES

1. Exclusion of Sales of Merchandise Entered Prior to Date of Suspension

2. Whether Defective Merchandise is Outside of the Scope

3. Exclusion of Re-sales of Defective Merchandise

4. Exclusion of Potentially Double-Counted U.S. Sales

5. Methodological Issues in the Differential Pricing Analysis

6. Zeroing

7. Monthly Time Periods in Differential Pricing Analysis

8. Conducting the Sales-Below-Cost-Test Based on Level of Trade

RECOMMENDATION

[FR Doc. 2015-23156 Filed 9-15-15; 8:45 am]

BILLING CODE 3510-DS-P